DEPARTMENT OF AGRICULTURE

Rural Utilities Service

Arkansas Electric Cooperative Corporation; Notice of Finding of No Significant Impact

AGENCY: Rural Utilities Service, USDA.

ACTION: Notice of finding of no significant impact.

SUMMARY: Notice is hereby given that the Rural Utilities Service (RUS) has made a finding of no significant impact (FONSI) with respect to a request from Arkansas Electric Cooperative Corporation for financing assistance from the RUS to finance the construction of a 153 megawatt (MW) combustion turbine electric generating plant in southwest Arkansas.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: The project will consist of a single 153 MW gas-fired, simple-cycle combustion turbine generating unit. Other on-site facilities include a 90-foot exhaust stack, step-up and auxiliary transformers, motor control centers, bus ductwork, an electric substation, and control, maintenance, and operations buildings. The project also includes 4 miles of 115 kV transmission line that will tie the station to the existing transmission grid. The transmission line will be built to 161 kV specifications in anticipation that additional transmission line capacity may be needed in the future.

The facility is designed to accommodate conversion of the unit to combined cycle operation, but will be initially operated as a simple cycle unit. The site has been sized to accommodate additional simple or combined cycle units that may be added in the future.

Copies of the FONSI are available from RUS at the address provided herein or form Curtis Warner, Arkansas Electric Cooperative Corporation, P.O. Box 194208, Little Rock, Arkansas 72219-4208. Telephone (501) 570-2462.

Dated: January 3, 2001.
Blaine D. Stockton,
Assistant Administrator, Electric Program, Rural Utilities Service.

[FR Doc. 01-556 Filed 1-8-01; 8:45 am]

BILLING CODE 3410-15-P